Proclamation 8978 of May 10, 2013

National Women's Health Week, 2013

By the President of the United States of America

A Proclamation

Since our Nation's founding, women have given their all to expanding opportunity for their families and for future generations. Decade after decade, that fierce dedication has been rewarded with remarkable progress in nearly every part of society; yet all too often, advances in women's health and well-being have lagged behind. During National Women's Health Week, we recommit to changing that reality and increasing access to health services that help women and girls get the care they need.

Three years ago, I signed the Affordable Care Act—reform that brought about a new era of equality in health care and gave women unprecedented control over their health. Under the law, women will no longer face higher insurance premiums because of their gender. It will be illegal for insurers to deny coverage due to pre-existing conditions like pregnancy or cancer. Already, 47 million women have gained access to preventive services at no out-of-pocket cost, including well-woman visits, domestic violence screenings and counseling, and contraceptive care. And millions more are benefitting from improved prescription drug coverage under Medicare that helps seniors get the medication they need at prices they can afford.

These changes are making a real difference for families in every part of our country. Thanks to the Affordable Care Act, working mothers no longer have to choose between getting essential care and paying their bills. Women no longer have to delay mammograms just because money is tight. And young people can stay on their parent's health insurance until age 26, so they no longer have to worry about how to afford health care when they are just starting out. I encourage women of all ages to visit www.WomensHealth.gov, www.GirlsHealth.gov, and www.HealthCare.gov to learn more about resources available to them, including the new Health Insurance Marketplace.

This week, as we reflect on how far we have come in the fight to provide Americans with the care they deserve, let us renew our commitment to empowering all women with the chance to live strong, healthy lives.

NOW, THEREFORE, I, BARACK OBAMA, President of the United States of America, by virtue of the authority vested in me by the Constitution and the laws of the United States, do hereby proclaim May 12 through May 18, 2013, as National Women's Health Week. I encourage all Americans to celebrate the progress we have made in protecting women's health and to promote awareness, prevention, and educational activities that improve the health of all women.

IN WITNESS WHEREOF, I have hereunto set my hand this tenth day of May, in the year of our Lord two thousand thirteen, and of the Independence of the United States of America the two hundred and thirty-seventh.

[FR Doc. 2013-11755

Filed 5-14-13; 11:15 am]

Billing code 3295-F3